DEPARTMENT OF LABOR

Employment and Training Administration

[TA-W-38,694]

Thrall Car, Thrall Car North American Rail, Chicago Heights, Illinois; Dismissal of Application for Reconsideration

Pursuant to 29 CFR 90.18(C) an application for administrative reconsideration was filed with the Director of the Division of Trade Adjustment Assistance for workers at Thrall Car, Thrall Car North American Rail, Chicago Heights, Illinois. The application contained no new substantial information which would bear importantly on the Department's determination. Therefore, dismissal of the application was issued.

TA-W-38,694; Thrall Car, Thrall Car North American Rail, Chicago Heights, Illinois (November 13, 2001)

Signed at Washington, DC this 26th day of November, 2001.
Edward A. Tomchick,
Director, Division of Trade Adjustment Assistance.

[FR Doc. 01-30056 Filed 12-04-01; 8:45 am]

BILLING CODE 4510-30-M